DEPARTMENT OF HEALTH AND HUMAN SERVICES

Centers for Disease Control and Prevention

Advisory Council for the Elimination of Tuberculosis: Notice of Charter Amendment

This gives notice under the Federal Advisory Committee Act (Pub. L. 92-463) of October 6, 1972, that the Advisory Council for the Elimination of Tuberculosis (ACET), Centers for Disease Control and Prevention (CDC), Department of Health and Human Services (HHS), has amended their charter to add a person who has had tuberculosis disease or who is the parent of a child who has had tuberculosis disease. The amended filing date is November 2, 2016.

For information, contact Hazel Dean, Sc.D., M.P.H., Designated Federal Officer, Advisory Council for the Elimination of Tuberculosis, Department of Health and Human Services, 1600 Clifton Road NE., Mailstop E-10, Atlanta, Georgia 30333, telephone 404/639-8000 or fax 404/639-8600.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-29453 Filed 12-8-16; 8:45 am]

BILLING CODE 4163-18-P